NATIONAL ARCHIVES AND RECORDS ADMINISTRATION

[NARA-2016-032]

Advisory Committee on the Records of Congress

AGENCY: National Archives and Records Administration (NARA).

ACTION: Notice of Advisory Committee meeting.

SUMMARY: In accordance with the Federal Advisory Committee Act, NARA announces a meeting of the Advisory Committee on the Records of Congress. The meeting is open to the public.

DATES: The meeting will be on June 13, 2016, from 10:00 a.m. to 11:30 a.m. EDT.

ADDRESSES: Capitol Visitor Center, Room SVC209-08 (Senate Visitor Center).

FOR FURTHER INFORMATION CONTACT: Center for Legislative Archives at (202) 357-5350 or Sharon Fitzpatrick by email at: sharon.fitzpatrick@nara.gov.

SUPPLEMENTARY INFORMATION:

Background

The committee advises NARA on the full range of programs, policies, and plans for the Center for Legislative Archives in the Office of Legislative Archives, Presidential Libraries, and Museum Services (LPM).

Agenda

(1) Chair's Opening Remarks—Secretary of the U.S. Senate

(2) Recognition of Co-chair—Clerk of the U.S. House of Representatives

(3) Recognition of the Archivist of the United States

(4) Approval of the minutes of the last meeting

(5) Senate Archivist's report

(6) House Archivist's report

(7) Center Update

(8) Other current issues and new business

Patrice Little Murray,
Committee Management Officer.

[FR Doc. 2016-11565 Filed 5-16-16; 8:45 am]

BILLING CODE 7515-01-P